DEPARTMENT OF EDUCATION

Applications for New Awards; Demonstration Grants for Indian Children and Youth Program—Native Youth Community Projects

AGENCY: Office of Elementary and Secondary Education, Department of Education.

ACTION: Notice.

SUMMARY: The Department of Education (Department) is inviting applications for the Demonstration Grants for Indian Children and Youth Program (Demonstration program).

DATES:

Applications Available: January 17, 2025.

Deadline for Notice of Intent to Apply: February 18, 2025.

Date of Pre-Application Webinar: February 3, 2025.

Application Deadline: April 28, 2025.

Deadline for Intergovernmental Review: June 26, 2025.

ADDRESSES: For the addresses for obtaining and submitting an application, please refer to the Application Submission Instructions section.

FOR FURTHER INFORMATION CONTACT: Donna Bussell, U.S. Department of Education, 400 Maryland Avenue SW, Room 3W239, Washington, DC 20202-6335. Telephone: (202) 987-0204. Email: donna.bussell@ed.gov.

If you are deaf, hard of hearing, or have a speech disability and wish to access telecommunications relay services, please dial 7-1-1.

SUPPLEMENTARY INFORMATION: Full Text of Announcement:

I. Funding Opportunity Description

1. Purpose of Program: The purpose of the program is to provide financial assistance to community-driven projects that develop and share innovative services and programs designed to improve the educational opportunities and achievement of Indian students by addressing community-level challenges.

Assistance Listing Number: 84.299A.

OMB Control Number: 1810-0722.

2. Award Information:

Type of Award: Discretionary grant.

Estimated Available Funds: The Administration requested $72,000,000 for Special Programs for Indian Children for fiscal year (FY) 2025, of which we intend to use an estimated $20,000,000 for this competition. The actual level of funding, if any, depends on final congressional action. However, we are inviting applications to allow enough time to complete the grant process if Congress appropriates funds for this program.

Estimated Range of Awards: $400,000-500,000.

Estimated Average Size of Awards: $450,000.

Estimated Number of Awards: 45.

Note: The Department is not bound by any estimates in this notice. Contingent upon the availability of funds and the quality of applications, we may make additional awards in FY 2026 or in future years from the list of unfunded applications from this competition.

Project Period: Up to 36 months, with potential for renewal of up to an additional 24 months (i.e., a total potential grant of up to 60 months).

Note: Under section 6121(d)(1)(C) of the Elementary and Secondary Education Act (ESEA), the Secretary of Education awards grants for an initial period of 36 months (3 years) and may renew them for up to 24 months (2 years) if the grantee has made substantial progress based on the approved application and any needed subsequent modifications to such application. The Department requests that applicants provide budget information in their applications for the full period, up to 60 months, for which they hope to be funded.

3. Eligible Applicants: Under section 6121(b) of the ESEA and 34 CFR 263.20, the following entities are eligible under this program, either alone or in a consortium:

(a) A State educational agency (SEA)

(b) A local educational agency (LEA).

(c) An Indian Tribe.

(d) An Indian organization.

(e) A federally supported elementary school or secondary school for Indian students (Bureau of Indian Education (BIE) or Tribally Controlled School).

(f) A Tribal College or University (TCU).

Note: Non-Tribal applicants who are in partnerships with Indian Tribes or Indian organizations should include in their partnership agreement, which is specified in Application Requirement (f), a description of substantial involvement from Tribes, with Tribal direction incorporated throughout the project period.

4. Background: The Demonstration program-NYCP finds and shares innovative, community-driven opportunities to support Native youth. Projects aim to develop strategies to prepare Native youth for their future while connecting with their Tribal Nations, demonstrate effectiveness, and share learning opportunities. Project design relies on Tribal input, alignment, and consultation to uphold self-determination and sovereignty.

For FY 2025, the Department will fund Native Youth Community Projects (NYCP) to support community-driven projects to help Native children and youth become college- and career-ready.

For the FY 2025 awards, the Department prioritizes partnerships with local businesses for career preparation programs designed to provide Native youth with the knowledge and skills needed to make an effective transition from school to a high-skill career.

The Department is also prioritizing access for Native students to early learning educational opportunities promoting equity in achievement. In addressing this priority, applicants could propose projects that are designed to administer early learning programs that are inclusive, developmentally informed, and linguistically and culturally responsive to prepare young children to make sufficient academic growth by the end of grade 3, including kindergarten and pre-kindergarten programs, community and family-based preschool programs that emphasize school readiness, screening and referral, meaningful parent and family engagement, and the provision of services to Native children and youth with disabilities to support early school success.

Both the priority for partnerships with local businesses and career centers and the priority for early learning educational opportunities are optional competitive preference priorities, as discussed later in this notice.

Note: These tables provide a summary of certain sections in this notice. Further detail on each of these sections is provided below. Applicants should read the notice in its entirety before applying.

Table 1—Summary of Notice Inviting Applications (NIA) Sections That MUST Be Addressed for Your Application To Be Considered
Application section | Description
Absolute Priority The full text is in the priorities section below. | Applicants must propose a project that fulfills the requirements of a Native Youth Community Project: 1) Focused on a defined local geographic area 2) Centered on the goal of ensuring that Indian students are prepared for college and careers 3) Informed by evidence 4) Focused on one or more barriers or opportunities with a community-based strategy or strategies and measurable objectives 5) Designed and implemented through a partnership of various entities 6) Led by an entity that is eligible and demonstrates the capacity to improve relevant outcomes
Application Requirements The full text of each requirement is in the application requirements section below. | (a) Tribal and Family Involvement. (b) Evaluation Plan. (c) Evidence-Based and Culturally Appropriate. (d) Project Sustainability Post Grant. (e) Needs Assessment or Other Data Analysis. (f) Signed Partnership Agreement. (g) Project plan with measurable objectives. (h) Assurance that funds will be used to supplement other program funding.

Table 2—Summary of NIA Sections That Are Evaluated and Scored
Application section | Description and points
Competitive Preference Priorities (CPP) The full text is in the priorities section below. | CPP 1: Tribal Lead Applicants (0 or 2 points) CPP 2: Tribal Partnership (0 or 1 point) CPP 3: Improving Educational Opportunities and Achievement of Indian Children and Youth (up to 2 points)
Selection criteria The full text is in the selection criteria section below. | Need for the Project (20 points) Quality of the Project Design (40 points) Quality of Project Personnel (20 points) Quality of Project Evaluation or Other Evidence Building (20 points)

5. Priorities: This notice contains one absolute priority and three competitive preference priorities.¹

¹ The absolute priority is from 34 CFR 263.21(c)(1) and incorporates a definition from 34 CFR 263.20; Competitive Preference Priority 1 is from 34 CFR 263.21(b)(1); Competitive Preference Priority 2 is from 34 CFR 263.21(b)(2); and Competitive Preference Priority 3 is from section 6121(c) of the ESEA (20 U.S.C. 7441).

Absolute Priority: For FY 2025 and any future year in which we make awards from the list of unfunded applications from this competition, this priority is an absolute priority, which means that all applications must address it to be eligible.²

² For information about absolute priorities in general, please see 34 CFR 75.105(c)(3) at https://www.ecfr.gov/current/title-34/part-75#p-75.105(c)(3).

This priority is:

Native Youth Community Projects.

To meet this priority, applicants must propose a project that fulfils the requirements of a Native Youth Community Project.

A Native Youth Community Project means a project that is:

(1) Focused on a defined local geographic area;

(2) Centered on the goal of ensuring that Indian students are prepared for college and careers;

(3) Informed by evidence, which could be either a needs assessment conducted within the last three years or other data analysis, on—

(i) The greatest barriers, both in and out of school, to the readiness of local Indian students for college and careers;

(ii) Opportunities in the local community to support Indian students; and

(iii) Existing local policies, programs, practices, service providers, and funding sources;

(4) Focused on one or more barriers or opportunities with a community-based strategy or strategies and measurable objectives;

(5) Designed and implemented through a partnership of various entities which—

(i) Must include—

(A) One or more Tribes or their Tribal education agencies; and

(B) One or more BIE-funded schools, one or more LEAs, or both; and

(ii) May include other optional entities, including community-based organizations, national nonprofit organizations, and Alaska regional corporations; and

(6) Led by an entity that—

(i) Is eligible for a grant under the Demonstration Grants for Indian Children program; and

(ii) Demonstrates, or partners with an entity that demonstrates, the capacity to improve outcomes that are relevant to the project focus through experience with programs funded through other sources.

Competitive Preference Priorities: For FY 2025 and any future year in which we make awards from the list of unfunded applications from this competition, these priorities are competitive preference priorities. Applicants are not required to address the competitive preference priorities, but addressing them may result in additional points.³ An application can receive points under either Competitive Preference Priority 1 or 2, but not both. Any application can also receive points under Competitive Preference Priority 3.

³ For additional information about competitive preference priorities, please see 34 CFR 75.105(c)(2)(i) at https://www.ecfr.gov/current/title-34/part-75#p-75.105(c)(2)(i).

These priorities are:

Competitive Preference Priority 1: Tribal Lead Applicants (0 or 2 points).

To meet this priority, an application must be submitted by an Indian Tribe, Indian organization, BIE-funded school, or TCU that is eligible to participate in the Demonstration program. A group application submitted by a consortium that meets the requirements of 34 CFR 75.127 through 75.129 or submitted by a partnership is eligible to receive the preference only if the lead applicant for the consortium is the Indian Tribe, Indian organization, BIE-funded school, or TCU.

Note: Being the lead applicant means that the Indian Tribe, Indian organization, BIE-funded school, or TCU submits the application and leads the work with partners.

Competitive Preference Priority 2: Tribal Partnership (0 or 1 point).

To meet this priority, an application must be submitted by a consortium of eligible entities that meets the requirements of 34 CFR 75.127 through 75.129 or submitted by a partnership if the consortium or partnership: (1) includes an Indian Tribe, Indian organization, BIE-funded school, or TCU; and (2) is not eligible to receive the preference under Competitive Preference Priority 1.

Note: To receive points under this priority, an applicant must include a signed agreement with the Indian Tribe, Indian organization, BIE-funded school, or TCU detailing the activities that each member of the group plans to perform.⁴

⁴ See 34 CFR 263.21(b)(2) and 34 CFR 75.127 through 129.

Competitive Preference Priority 3: Improving Educational Opportunities and Achievement of Indian Children and Youth (up to 2 points).

To meet this priority, an applicant must demonstrate that the application proposes a project designed to improve educational opportunities for Indian students through one or both of the following activities:

(1) Early childhood education programs that are effective in preparing young children to make sufficient academic growth by the end of grade 3, including kindergarten and pre-kindergarten programs, family-based preschool programs that emphasize school readiness, screening and referral, and the provision of services to Indian children and youth with disabilities.

(2) Partnership projects between schools and local businesses for career preparation programs designed to provide Indian youth with the knowledge and skills to make an effective transition from school to a high-skill career.

Under section 6121(d)(1)(B) of the ESEA, the Department gives priority to applications that propose a plan for offering both early learning educational opportunities and career preparation opportunities as described above for a period of more than 1 year. Applicants can receive 1 point for each activity and must address both activities to receive 2 points under this priority.

Note: To receive points under paragraph (2), consistent with 34 CFR 263.22(b)(2) and application requirement (f) in this notice, applicants must include an agreement signed by the partners in the proposed project, identifying the responsibilities of each partner in the project. The agreement must include the local business and describe the local business's responsibilities as a partner in the proposed project.

6. Requirements: For FY 2025 and any future year in which we make awards from the list of unfunded applications from this competition, applicants must meet the following application requirements from section 6121 of the ESEA (20 U.S.C. 7441) and 34 CFR 263.22.

Application Requirements:

(a) A description of how Indian Tribes and parents and families of Indian children and youth have been, and will be, involved in developing and implementing the proposed activities;

(b) Assurances that the applicant will participate, at the request of the Secretary, in any national evaluation of this program;

(c) Information demonstrating that the proposed project is evidence-based, where applicable, or is based on an existing evidence-based program that has been modified to be culturally appropriate for Indian students;

(d) A description of how the applicant will continue the proposed activities once the grant period is over;

(e) Evidence, which could be either a needs assessment conducted within the last three years or other data analysis, of—

(1) The greatest barriers, both in and out of school, to the readiness of local Indian students for college and careers;

(2) Opportunities in the local community to support Indian students; and

(3) Existing local policies, programs, practices, service providers, and funding sources;

(f) A copy of an agreement signed by the partners in the proposed project, identifying the responsibilities of each partner in the project. The agreement can be either—

(1) A consortium agreement that meets the requirements of 34 CFR 75.128, if each of the entities are eligible entities under this program; or

(2) Another form of partnership agreement, such as a memorandum of understanding or a memorandum of agreement, if not all the partners are eligible entities under this program;

(g) A plan, which includes measurable objectives, to evaluate reaching the project goal or goals;

(h) An assurance that—

(1) Services will be supplemental to the education program provided by local schools attended by the students to be served;

(2) Funding will be supplemental to existing sources, such as Johnson O'Malley funding; and

(3) The availability of funds for supplemental special education and related services (i.e., services that are not part of the special education and related services, supplementary aids and services, and program modifications or supports for school personnel that are required to make a free appropriate public education (FAPE) available under Part B of the Individuals with Disabilities Education Act (IDEA) to a child with a disability in conformity with the child's individualized education program or the regular or special education and related aids and services required to make FAPE available under a section 504 plan, if any) does not affect the right of the child to receive FAPE under Part B of the IDEA or Section 504, and the respective implementing regulations.

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this preference, an Indian is a is a member of any federally recognized Indian Tribe.

7. Selection Criteria: The selection criteria for this competition are from 34 CFR 75.210. The maximum score for addressing each criterion and factor within each criterion, is included in parentheses. The maximum score for these criteria is 100 points.

The selection criteria are as follows:

(a) Need for project (20 points). The Secretary considers the need for the proposed project. In determining the need for the proposed project, the Secretary considers the following factors:

(1) The extent to which the proposed project demonstrates the magnitude of the need for the services to be provided or the activities to be carried out by the proposed project. (Up to 10 points)

(2) The extent to which the specific nature and magnitude of gaps or challenges are identified and the extent to which these gaps or challenges will be addressed by the services, supports, infrastructure, or opportunities described in the proposed project. (Up to 5 points)

(3) The extent to which the proposed project will focus on serving or otherwise addressing the needs of underserved populations. (Up to 5 points)

(b) Quality of project design (40 points). The Secretary considers the quality of the design of the proposed project. In determining the quality of the design of the proposed project, the Secretary considers the following factors:

(1) The extent to which the goals, objectives, and outcomes to be achieved by the proposed project are clearly specified, measurable, and ambitious yet achievable within the project period, and aligned with the purposes of the grant program. (Up to 5 points)

(2) The extent to which the design of the proposed project demonstrates meaningful community engagement and input to ensure that the project is appropriate to successfully address the needs of the target population or other identified needs and will be used to inform continuous improvement strategies. (Up to 10 points)

(3) The extent to which the design for implementing and evaluating the proposed project will result in information to guide possible replication of project activities or strategies, including valid and reliable information about the effectiveness of the approach or strategies employed by the project. (Up to 10 points)

(4) The quality of the proposed demonstration design, such as qualitative and quantitative design, and procedures for documenting project activities and results for underserved populations. (Up to 5 points)

(5) The extent to which the proposed project demonstrates a rationale (as defined in this notice) that is aligned with the purposes of the grant program. (Up to 10 points)

(c) Quality of project personnel (20 points). The Secretary considers the quality of the personnel who will carry out the proposed project. In determining the quality of project personnel, the Secretary considers the following factors:

(1) The extent to which the applicant demonstrates that it has project personnel or a plan for hiring of personnel who are members of groups that have historically encountered barriers, or who have professional or personal experiences with barriers, based on one or more of the following: economic disadvantage; language; and living in a rural location. (Up to 1 point)

(2) The extent to which the project director or principal investigator, when hired, has the qualifications required for the project, including formal training or work experience in fields related to the objectives of the project and experience in designing, managing, or implementing similar projects for the target population to be served by the project. (Up to 5 points)

(3) The extent to which the key personnel in the project, when hired, have the qualifications required for the proposed project, including formal training or work experience in fields related to the objectives of the project, and represent or have lived experiences of the target population. (Up to 10 points)

(4) The extent to which the proposed project team maximizes diverse perspectives, for example by reflecting the lived experiences of project participants, or relevant experience working with the target population. (Up to 4 points)

(d) Quality of the project evaluation or other evidence-building (20 points). The Secretary considers the quality of the evaluation to be conducted of the proposed project. In determining the quality of the evaluation, the Secretary considers the following factors:

(1) The extent to which the methods of evaluation or other evidence-building are appropriate to the context in which the project operates and the target population of the proposed project. (Up to 10 points)

(2) The extent to which the evaluation will provide guidance about effective strategies suitable for replication or testing and potential implementation in other settings. (Up to 5 points)

(3) The extent to which the evaluator has the qualifications, including the relevant training, experience, and independence, required to conduct an evaluation of the proposed project, including experience conducting evaluations of similar methodology as proposed and with evaluations for the proposed population and setting. (Up to 5 points)

8. Performance Measures: If funded under this competition, each grantee will be required to provide data on the performance measures listed below,⁵ in annual and final performance reports. These measures constitute the Department's indicators of success for this program. The performance measures for this program are:

⁵ These are the performance measures used for purposes of Department reporting under 34 CFR 75.110.

(1) The number and percentage of the annual measurable objectives, as described in the application, that the grantees meet; and

(2) The number of, and percentage increase in, community collaborative efforts that promote college and career readiness of Indian children.

9. Definitions: The following definitions apply to this competition.⁶

⁶ The definition of “evidence-based” is from section 8101(21) of the ESEA (20 U.S.C. 7801(21)), and the definitions of “Indian,” “Indian organization,” “Parent,” “Native youth community project,” and “Tribal college or university” are from 34 CFR 263.20. The definitions of “demonstrates a rationale,” “evidence-based,” “relevant outcome,” “project component,” and “logic model” are from 34 CFR 77.1.

Demonstrates a rationale means that there is a key project component included in the project's logic model that is supported by citations of high-quality research or evaluation findings that suggest that the project component is likely to significantly improve relevant outcomes.

Evidence-based, when used with respect to a State, LEA, or school activity, means an activity, strategy, or intervention that—

(1) Demonstrates a statistically significant effect on improving student outcomes or other relevant outcomes based on—

(i) Strong evidence from at least one well-designed and well-implemented experimental study;

(ii) Moderate evidence from at least one well-designed and well-implemented quasi-experimental study; or

(iii) Promising evidence from at least one well-designed and well-implemented correlational study with statistical controls for selection bias; or

(2)(i) Demonstrates a rationale based on high-quality research findings or positive evaluation that such activity, strategy, or intervention is likely to improve student outcomes or other relevant outcomes; and

(ii) Includes ongoing efforts to examine the effects of such activity, strategy, or intervention.

Indian means an individual who is—

(1) A member of an Indian Tribe or band, as membership is defined by the Indian Tribe or band, including any Tribe or band terminated since 1940, and any Tribe or band recognized by the State in which the Tribe or band resides;

(2) A descendant of a parent or grandparent who meets the requirements described in paragraph (1) of this definition;

(3) Considered by the Secretary of the Interior to be an Indian for any purpose;

(4) An Eskimo, Aleut, or other Alaska Native; or

(5) A member of an organized Indian group that received a grant under the Indian Education Act of 1988 as it was in effect on October 19, 1994.

Indian organization means an organization that—

(1) Is legally established—

(i) By Tribal or inter-Tribal charter or in accordance with State or Tribal law; and

(ii) With appropriate constitution, by-laws, or articles of incorporation;

(2) Includes in its purposes the promotion of the education of Indians;

(3) Is controlled by a governing board, the majority of which is Indian;

(4) If located on an Indian reservation, operates with the sanction of or by charter from the governing body of that reservation;

(5) Is neither an organization or subdivision of, nor under the direct control of, any institution of higher education or TCU; and

(6) Is not an agency of State or local government.

Logic model (also referred to as a theory of action) means a framework that identifies key project components of the proposed project (i.e., the active “ingredients” that are hypothesized to be critical to achieving the relevant outcomes) and describes the theoretical and operational relationships among the key project components and relevant outcomes.

Native youth community project means a project that is—

(1) Focused on a defined local geographic area;

(2) Centered on the goal of ensuring that Indian students are prepared for college and careers;

(3) Informed by evidence, which could be either a needs assessment conducted within the last three years or other data analysis, on—

(i) The greatest barriers, both in and out of school, to the readiness of local Indian students for college and careers;

(ii) Opportunities in the local community to support Indian students; and

(iii) Existing local policies, programs, practices, service providers, and funding sources;

(4) Focused on one or more barriers or opportunities with a community-based strategy or strategies and measurable objectives;

(5) Designed and implemented through a partnership of various entities, which—

(i) Must include—

(A) One or more Tribes or their Tribal education agencies; and

(B) One or more BIE-funded schools, one or more LEAs, or both; and

(ii) May include other optional entities, including community-based organizations, national nonprofit organizations, and Alaska regional corporations; and

(6) Led by an entity that—

(i) Is eligible for a grant under the Demonstration program; and

(ii) Demonstrates, or partners with an entity that demonstrates, the capacity to improve outcomes that are relevant to the project focus through experience with programs funded through other sources.

Parent includes a legal guardian or other person standing in loco parentis (such as a grandparent or stepparent with whom the child lives, or a person who is legally responsible for the child's welfare).

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Tribal College or University (TCU) means an accredited college or university within the United States cited in section 532 of the Equity in Educational Land-Grant Status Act of 1994, any other institution that qualifies for funding under the Tribally Controlled College or University Assistance Act of 1978, and the Navajo Community College, authorized in the Navajo Community College Assistance Act of 1978.

10. Program Authority and Applicable Regulations:

Program Authority: 20 U.S.C. 7441.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The program regulations in 34 CFR part 263.

Note: The open licensing requirement in 2 CFR 3474.20 does not apply to this program.

Note: The regulations in 34 CFR part 79 apply to all applicants except federally recognized Indian Tribes.

Note: The regulations in 34 CFR part 86 apply to institutions of higher education only.

Note: As of October 1, 2024, grant applicants must follow the provisions stated in the Uniform Guidance for Federal Financial Assistance (89 FR 30046, April 22, 2024) when preparing an application. For more information about these regulations please visit: https://www.cfo.gov/resources-coffa/uniform-guidance/.

II. Supplemental Requirements

1. a. Cost Sharing or Matching: This program does not require cost sharing or matching.

b. Indirect Cost Rate Information: This program uses an unrestricted indirect cost rate. For more information regarding indirect costs, or to obtain a negotiated indirect cost rate, please see https://www.ed.gov/about/ed-offices/ofo#Indirect-Cost-Division.

c. Administrative Cost Limitation: Under ESEA section 6121(e), no more than five percent of the funds awarded for a grant may be used for administrative costs. Note that, since fiscal year 2020, Congress has included language in appropriations acts to clarify that the statutory 5 percent limit does not include indirect costs. In the event such language is not included in the FY 2025 appropriations act, the Department will work with successful applicants to make budget adjustments to align with administrative cost restrictions, if necessary.

2. Subgrantees: A grantee under this competition may not award subgrants to entities to directly carry out project activities described in its application.

3. Other: Projects funded under this competition should budget for a two-day Project Directors' meeting in Washington, DC during each year of the project period.

III. Application and Submission Information

1. Recommended Page Limit: The application narrative refers to the application section that addresses the priorities and selection criteria that reviewers use to evaluate your application. We recommend that the application narrative (1) not exceed 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

2. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

3. Funding Restrictions: We reference regulations outlining funding restrictions in the Applicable Regulations section of this notice.

4. Application Submission Instructions: Applicants are required to follow the Common Instructions for Applicants to Department of Education Discretionary Grant Programs (89 FR 104528, December 23, 2024), which are available at www.federalregister.gov/documents/2024/12/23/2024-30488/common-instructions-for-applicants-to-department-of-education-discretionary-grant-programs.

5. Submission of Proprietary Information: Given the types of projects that may be proposed in applications for the Demonstration program, your application may include business information that you consider proprietary. In 34 CFR 5.11 we define “business information” and describe the process we use in determining whether any of that information is proprietary and, thus, protected from disclosure under Exemption 4 of the Freedom of Information Act (5 U.S.C. 552, as amended).

Because we may make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

6. Intergovernmental Review: This competition is subject to intergovernmental review under Executive Order 12372. Information about this process is in the application package.

IV. Application Review Information

1. Review and Selection Process: In reviewing grant applications, the Secretary may consider the applicant's prior performance on other grant awards, including whether the projects achieved their objectives and the timeliness and quality of required reporting.

To receive an award, the Secretary requires assurances, including that the recipient of Federal financial assistance will comply with all Federal civil rights and non-discrimination laws.

2. Risk Assessment and Specific Conditions: Before awarding grants under this competition, the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected to receive an award that over the course of the project period may exceed the simplified acquisition threshold (currently $250,000), we must make a judgment about your integrity, business ethics, and record of performance under Federal awards—that is, the risk posed by you as an applicant—before we make an award. In determining risk, we review the information in the Federal Awardee Performance and Integrity Information System (FAPIIS)), accessible through the System for Award Management. You may review and comment on any information about yourself that a Federal agency previously entered and that is currently in FAPIIS.

If the total value of your currently active grants, cooperative agreements, and procurement contracts from the Federal Government exceeds $10,000,000, the reporting requirements require you to report certain integrity information to FAPIIS semiannually. Please review the requirements in 2 CFR part 200, appendix XII, if this grant plus all the other Federal funds you receive exceed $10,000,000.

V. Award Administration Information

1. Award Notices: If your application is successful, we notify your U.S. Representative and U.S. Senators and send you a Grant Award Notification (GAN); or we may send you an email containing a link to access an electronic version of your GAN. We may notify you informally, also. If your application is not evaluated or not selected for funding, we notify you.

The GAN identifies the terms and conditions and applicable regulations of your award. The GAN also incorporates your approved application as part of your binding commitments under the grant.

2. Reporting: (a) If you apply for a grant under this competition, you must ensure that you have in place the necessary processes and systems to comply with the reporting requirements should you receive funding under the competition. This does not apply if you have an exception.

(b) At the end of your project period, you must submit a final performance report, including financial information. If you receive a multiyear award, you must submit an annual performance report that provides the most current performance and financial expenditure information as directed by the Secretary. The Secretary may also require more frequent performance reports. For specific requirements on reporting, please go to www.ed.gov/fund/grant/apply/appforms/appforms.html.

(c) The Secretary may provide a grantee with additional funding for data collection analysis and reporting. In this case the Secretary establishes a data collection period.

5. Continuation Awards: In making a continuation award, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department.

VI. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at http://www.federalregister.gov/. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Adam Schott,
Principal Deputy Assistant Secretary, Delegated the Authority to Perform the Functions and Duties of the Assistant Secretary Office of Elementary and Secondary Education.

[FR Doc. 2025-01238 Filed 1-16-25; 8:45 am]

BILLING CODE 4000-01-P